DEPARTMENT OF COMMERCE

International Trade Administration

[A-351-858]

Certain Lemon Juice From Brazil: Final Affirmative Determination of Sales at Less Than Fair Value

AGENCY: Enforcement and Compliance, International Trade Administration, Department of Commerce.

SUMMARY: The U.S. Department of Commerce (Commerce) determines that certain lemon juice (lemon juice) from Brazil is being, or is likely to be, sold in the United States at less than fair value (LTFV).

DATES: Applicable December 23, 2022.

FOR FURTHER INFORMATION CONTACT: Lilit Astvatsatrian or Dakota Potts, AD/CVD Operations, Office IV, Enforcement and Compliance, International Trade Administration, U.S. Department of Commerce, 1401 Constitution Avenue NW, Washington, DC 20230; telephone: (202) 482-6412 or (202) 482-0223, respectively.

SUPPLEMENTARY INFORMATION:

Background

On August 4, 2022, Commerce published in the Federal Register the Preliminary Determination in this investigation.¹ A summary of the events that occurred since Commerce published the Preliminary Determination, as well as a full discussion of the issues raised by interested parties for this final determination, may be found in the Issues and Decision Memorandum.²

¹ See Certain Lemon Juice from Brazil: Preliminary Affirmative Determination of Sales at Less Than Fair Value, Postponement of Final Determination, and Extension of Provisional Measures, 87 FR 47697 (August 4, 2022) (Preliminary Determination), and accompanying Preliminary Decision Memorandum.

² See Memorandum, “Issues and Decision Memorandum for the Final Affirmative Determination in the Less-Than-Fair-Value Investigation of Certain Lemon Juice from Brazil,” dated concurrently with, and hereby adopted by, this notice (Issues and Decision Memorandum).

Period of Investigation

The period of investigation is October 1, 2020, through September 30, 2021.

Scope of the Investigation

The product covered by this investigation is lemon juice from Brazil. For a complete description of the scope of this investigation, see Appendix I.

Scope Comments

No interested party commented on the scope of the investigation as it appeared in the Preliminary Determination. Therefore, no changes were made to the scope of the investigation.

Analysis of Comments Received

All issues raised in the case briefs and rebuttal briefs submitted by interested parties in this proceeding are discussed in the Issues and Decision Memorandum. A list of the issues raised by parties and responded to by Commerce in the Issues and Decision Memorandum is attached to this notice as Appendix II. The Issues and Decision Memorandum is a public document and is available electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Verification

Commerce conducted verification of the information relied upon in making its final determination in this investigation with respect to Louis Dreyfus Company Sucos S.A. (LDC) and Citrus Juice Eireli (Citrus Juice) in accordance with section 782(i) of the Tariff Act of 1930, as amended (the Act).³ Specifically, Commerce conducted on-site verifications of the third country market sales, U.S. sales, and cost of production responses submitted by LDC and Citrus Juice.

³ See Memoranda, “Verification of the Sales Response of Citrus Juice Eireli in the Antidumping Investigation of Certain Lemon Juice from Brazil,” dated September 30, 2022; “Verification of the Sales Questionnaire Response of Louis Dreyfus Company Sucos S.A. in the Antidumping Investigation of Certain Lemon Juice from Brazil,” dated October 5, 2022; “Verification of the Cost Response of Citrus Juice Eireli in the Less Than Fair Value Investigation of Certain Lemon Juice from Brazil,” dated October 18, 2022; and “Verification of the Cost Response of Louis Dreyfus Company Sucos S.A. in the Lower-Than-Fair-Value Investigation of Certain Lemon Juice from Brazil,” dated October 21, 2022.

Changes Since the Preliminary Determination

Based on our analysis of the comments received and additional information obtained since our preliminary findings, we made certain changes to the margin calculation for Citrus Juice and LDC after the Preliminary Determination. For a discussion of these changes, see the Issues and Decision Memorandum.

All-Others Rate

In accordance with section 735(c)(1)(B)(i)(I) of the Act, we calculated an individual estimated weighted-average dumping margin for the two mandatory respondents, Citrus Juice and LDC. Section 735(c)(5)(A) of the Act states that, for companies not individually investigated, Commerce will determine estimated all-others rate shall be an amount equal to the weighted average of the estimated weighted average dumping margins established for exporters and producers individually investigated, excluding any zero and de minimis margins, and any rates determined entirely on facts otherwise available under section 776 of the Act.

In this investigation, Commerce calculated a de minimis rate for LDC. Therefore, the only rate that is not zero, de minimis, or based entirely on facts otherwise available is the rate calculated for Citrus Juice. Consequently, the rate calculated for Citrus Juice is also assigned as the rate for all other producers and exporters.

Final Determination

The estimated weighted-average dumping margins are as follows:

Exporter/producer | Weighted- average dumping margin (percent)
Citrus Juice Eireli | 22.31
Louis Dreyfus Company Sucos S.A | 0.00
All Others | 22.31

Disclosure

Commerce intends to disclose its calculations and analysis performed to interested parties in this final determination within five days of any public announcement or, if there is no public announcement, within five days of the date of publication of this notice in accordance with 19 CFR 351.224(b).

Continuation of Suspension of Liquidation

In accordance with section 735(c)(1)(B) of the Act, we will instruct U.S. Customs and Border Protection (CBP) to continue the suspension of liquidation of all appropriate entries of lemon juice, as described in Appendix I of this notice, which were entered, or withdrawn from warehouse, for consumption on or after August 4, 2022, the date of publication of the Preliminary Determination in this investigation in the Federal Register.

Pursuant to section 735(c)(1)(B)(ii) of the Act, we will instruct CBP to require a cash deposit equal to the estimated weighted-average dumping margin or the estimated all-others rate, as follows: (1) the cash deposit rate for each of the respondents listed in the table above is the company-specific cash deposit rate listed for the respondent in the table; (2) if the exporter is not a respondent listed in the table above, but the producer is, then the cash deposit rate is the company-specific cash deposit rate listed for the producer of the subject merchandise in the table above; and (3) the cash deposit rate for all other producers and exporters is the all-others cash deposit rate listed in the table above. These suspension of liquidation instructions will remain in effect until further notice.

U.S. International Trade Commission Notification

In accordance with section 735(d) of the Act, Commerce will notify the U.S. International Trade Commission (ITC) of its final affirmative determination of sales at LTFV. Because the final determination in this proceeding is affirmative, in accordance with section 735(b)(2) of the Act, the ITC will make its final determination as to whether the domestic industry in the United States is materially injured, or threatened with material injury, by importation of lemon juice from Brazil, no later than 45 days after our final determination. If the ITC determines that material injury or threat of material injury does not exist, the proceeding will be terminated, all cash deposits will be refunded, and suspension of liquidation will be lifted. If the ITC determines that material injury or threat of material injury does exist, Commerce will issue an antidumping duty order directing CBP to assess, upon further instruction by Commerce, antidumping duties on all imports of the subject merchandise, entered, or withdrawn from warehouse, for consumption on or after the effective date of the suspension of liquidation.

Administrative Protective Order

This notice serves as the only reminder to parties subject to an administrative protective order (APO) of their responsibility concerning the disposition of proprietary information disclosed under APO in accordance with 19 CFR 351.305(a)(3). Timely notification of the return or destruction of APO materials or conversion to judicial protective order is hereby requested. Failure to comply with the regulations and the terms of an APO is a violation subject to sanction.

Notification to Interested Parties

This determination is issued and published in accordance with sections 735(d) and 777(i) of the Act and 19 CFR 351.210(c).

Dated: December 19, 2022.
Lisa W. Wang,
Assistant Secretary for Enforcement and Compliance.

Appendix I

Scope of the Investigation

The product covered by this investigation is certain lemon juice. Lemon juice is covered: (1) with or without addition of preservatives, sugar, or other sweeteners; (2) regardless of the GPL (grams per liter of citric acid) level of concentration, brix level, brix/acid ratio, pulp content, clarity; (3) regardless of the grade, horticulture method (e.g., organic or not), processed form (e.g., frozen or not-from-concentrate), the size of the container in which packed, or the method of packing; and (4) regardless of the U.S. Department of Agriculture Food and Drug Administration (FDA) standard of identity (as defined under 19 CFR 146.114 et seq.) (i.e., whether or not the lemon juice meets an FDA standard of identity).

Excluded from the scope are: (1) lemon juice at any level of concentration packed in retail-sized containers ready for sale to consumers; and (2) beverage products, such as lemonade, that contain 20 percent or less lemon juice as an ingredient by actual volume. “Retail-sized containers” are defined as lemon juice products sold in ready-for-sale packaging (e.g., clearly visible branding, nutritional facts listed, etc.) containing up to 128 ounces of lemon juice by actual volume.

The scope also includes certain lemon juice that is blended with certain lemon juice from sources not subject to this investigation. Only the subject lemon juice component of such blended merchandise is covered by the scope of this investigation. Blended lemon juice is defined as certain lemon juice with two distinct component parts of differing country(s) of origin mixed together to form certain lemon juice where the component parts are no longer individually distinguishable.

The product subject to this investigation is currently classifiable under subheadings 2009.31.4000, 2009.31.6020, 2009.31.6040, 2009.39.6020, and 2009.39.6040 of the Harmonized Tariff Schedule of the United States (HTSUS). Although the HTSUS subheadings are provided for convenience and customs purposes, the written description of the scope of this investigation is dispositive.

Appendix II

List of Topics Discussed in the Issues and Decision Memorandum

I. Summary

II. Background

III. Period of Investigation

IV. Scope of the Investigation

V. Changes Since the Preliminary Determination

VI. Discussion of the Issues

Comment 1: Application of Adverse Facts Available (AFA) for Citrus Juice

Comment 2: Whether Commerce's Preliminary Adjustment to the Net Realizable Value (NRV) of Citrus Juice's Lemon Coproducts was Correct

Comment 3: Affiliations between LDC and Its Supplier

Comment 4: Revision to the Adjustment for Affiliated Transactions

Comment 5: Financial Statements for the Period Cost Calculations

Comment 6: Revisions to LDC's Reported Cost for Verification Findings and Material Price Difference Adjustments

Comment 7: Whether Commerce Should Include LDC's Parent Company General and Administrative (G&A) Expenses in the Reported G&A Expenses

Comment 8: Margin Calculation Methodology for LDC

VII. Recommendation

[FR Doc. 2022-28009 Filed 12-22-22; 8:45 am]

BILLING CODE 3510-DS-P